DEPARTMENT OF THE INTERIOR

Bureau of Indian Affairs

Proclaiming Certain Lands as a Reservation for the Match-e-be-nash-she-wish Band of Pottawatomi Indians of Michigan, aka, Gun Lake Tribe

AGENCY: Bureau of Indian Affairs, Interior.

ACTION: Notice of Reservation Proclamation; Correction.

SUMMARY: The Bureau of Indian Affairs (BIA) published a document in the Federal Register of August 18, 2009, concerning the Assistant Secretary-Indian Affairs proclaiming approximately 147 acres as the Match-e-be-nash-she-wish Band of Pottawatomi Indian Reservation. The document contained an error in the legal description.

DATES: Effective Date: August 28, 2009.

FOR FURTHER INFORMATION CONTACT: Ben Burshia, Bureau of Indian Affairs, Division of Real Estate Services, MS-4639 MIB, 1849 C Street, NW., Washington, DC 20240, telephone (202) 208-7737.

SUPPLEMENTARY INFORMATION:

Corrections

In the Federal Register of August 18, 2009, in FR Doc. E9-19751, on page 41741, in the first column, line one, insert the following text after the word “section,” and before the word “said:”

which is North 86 degrees 57 minutes 24 seconds East 481.98 feet from the West line of said Section

Also on page 41741, in the first column, line 33, change “East 431.00 feet;” to the following and delete lines 34, 35, 36, 37 and 38 in their entirety:

East 325.00 feet.

Dated: August 21, 2009.
George T. Skibine,
Acting Principal Deputy Assistant Secretary—Indian Affairs.

[FR Doc. E9-20791 Filed 8-27-09; 8:45 am]

BILLING CODE 4310-W7-P